Title 3—

The President

Proclamation 7798 of June 22, 2004

Black Music Month, 2004

By the President of the United States of America

A Proclamation

The creativity and variety of African-American composers, singers, and musicians have shaped America's artistic and cultural landscape. During Black Music Month, we celebrate and honor the extraordinary impact of African-American music on our Nation's musical heritage.

The artistry of black musicians changes as each generation brings new talent and trends. Yet, there is a continuous theme. From the profound spirituality of African indigenous faith that influenced gospel, through the development of blues and jazz, to the emergence of rhythm and blues and rock and roll, we hear the richness of the African-American experience, past and present.

The earliest African-American music echoed the struggle of the oppressed, the trust of the faithful, and the endurance of the weary. We hear the voice of hope in work songs, hymns, psalms, and spirituals. The musical expression that captured the struggle for freedom and equality formed the foundation for gospel, blues, and jazz. African-American churchgoers transformed early spirituals into gospel music, giving voice to praises that still move listeners today. In the early 20th century, performers like Ida Cox and Tommy Johnson gave life to the improvised performances and style of the blues. As artists migrated to cities, the blues developed into an urban phenomenon and evolved into a major force in contemporary music.

During the same period, early pioneers such as Duke Ellington and Jelly Roll Morton were merging African musical roots with popular and church music to create a distinctively American sound: jazz. Songs first played in clubs in New Orleans, Memphis, and Chicago are now recognized and loved around the world. As jazz has expanded beyond its acoustic roots, African-American dreams, hopes, and joys have remained at the music's core.

The brilliance of new musical expressions emerged with rhythm and blues in the 1940s and rock and roll in the 1950s. Songs from great artists performing today embody the enduring appeal of this music. As black music continues to bring enjoyment to us all, the commemoration of this month expresses our Nation's recognition of its influence and our pride in its legacy.

NOW, THEREFORE, I, GEORGE W. BUSH, President of the United States of America, by virtue of the authority vested in me by the Constitution and laws of the United States, do hereby proclaim June 2004 as Black Music Month. I encourage all Americans to learn more about the history of black music and to enjoy the great contributions of African-American musicians.

IN WITNESS WHEREOF, I have hereunto set my hand this twenty-second day of June, in the year of our Lord two thousand four, and of the Independence of the United States of America the two hundred and twenty-eighth.

B

[FR Doc. 04-14644

Filed 6-24-04; 8:45 am]

Billing code 3195-01-P